DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period July 27, 2006 Through August 30, 2006
Firm | Address | Date petition accepted | Product
GasTech Engineering, Inc | 1007 E. Admiral Boulevard, Tulsa, OK 74145 | 7/27/06 | Oil and gas production equipment.
Norgren, Inc | 5400 South Delaware Street, Littleton, CO 80120 | 8/4/06 | Motion and fluid control equipment.
Mega Manufacturing, Inc | 401 S. Washington Street, Hutchinson, KS 67501 | 8/4/06 | Metal shearing and fabrication machinery.
COBE Cardiovascular, Inc | 14401 W 65th Way, Arvada, CO 80004 | 8/4/06 | Electrosurgical products used in open heart surgery.
El Encanto, Inc. dba Bueno Foods (JV) | 2001 4th Street SW., Albuquerque, NM 87102 | 8/7/06 | Vegetable products, spices, tortillas.
Valley Oak Cabinets, Inc | 7050 97th Plaza Circle, Omaha, NE 68122 | 8/14/06 | Wood kitchen cabinets and wood doors.
Bra-Vor Tool and Die Company, Inc | 11189 Murray Road, Meadville, PA | 8/23/06 | Stamped metal parts.
Alumina Ceramic Components, Inc | 4532 Route 982, Latrobe, PA 15650 | 8/23/06 | Industrial ceramic components.
Capps Shoe Company, Inc | 3715 Mayflower Drive, Lynchburg, VA 24501 | 8/23/06 | Men's and women's shoes.
Metal Edge International, Inc | 337 West Walnut Street, North Wales, PA 19454 | 8/23/06 | Specialty packaging products.
National Graphics, Inc | 2711 Miami Street, St. Louis, MO 63118 | 8/29/06 | Coated inkjet media.
Discovery Plastics, LLC | 3607 28th Avenue, NE., Miami, OK 74354 | 8/29/06 | Automotive plastic injection molding parts.
George Gordon Associates, Inc | 12 Continental Boulevard, Merrimack, NH 03054 | 8/29/06 | Packing and wrapping machinery.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Dated: August 30, 2006.
Barry Bird,
Chief Counsel.

[FR Doc. E6-14815 Filed 9-6-06; 8:45 am]

BILLING CODE 3510-24-P